DEPARTMENT OF DEFENSE

Office of the Secretary

[Transmittal No. 23-0S]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0S.

Dated: May 27, 2025.
Aaron T. Siegel,
Alternate OSD Federal Register Liaison Officer, Department of Defense.

BILLING CODE 6001-FR-P

Transmittal No. 23-0S

REPORT OF ENHANCEMENT OR UPGRADE OF SENSITIVITY OF TECHNOLOGY OR CAPABILITY (SEC. 36(B)(5)(C), AECA)

(i) Purchaser: Government of Egypt

(ii) Sec. 36(b)(1), AECA Transmittal No.: 19-74

Date: May 7, 2020

Implementing Agency: Army

Funding Source: National Funds

(iii) Description: On May 7, 2020, Congress was notified by Congressional certification transmittal number 19-74, of the possible sale under Section 36(b)(1) of the Arms Export Control Act, of equipment to refurbish forty-three (43) AH-64E Apache attack helicopters. This included: eighty-eight (88) T700-GE-701D engines (86 remanufactured, 2 spares); forty-seven (47) AN/ASQ-170 Modernized Target Acquisition and Designation Sight/AN/AAR-11 Modernized Pilot Night Vision Sensors (MTADS/PNVS) (43 remanufactured, 2 new, 2 spares); forty-five (45) AAR-57 Common Missile Warning Systems (CMWS) (43 new, 2 spares); and ninety-two (92) Embedded Global Positioning System/Inertial Navigation Systems (EGI) (86 new, 6 spares). Also included were AN/AVR-2B Laser Detecting Sets, AN/APX-119 transponders, Identify Friend or Foe (IFF), AN/APN-209 radar altimeters, AN/ARN-149 Automatic Direction Finders, UHF/VHF radio, tactical AN/ARC-201E radio, APR-39 Radar Warning Sets, Improved Data Modems IDM-401, Enhanced Image Intensifiers EI2, Hellfire launchers M299, 2.75 inch 19 tube rocket launchers, M230 automatic guns, M230 spare gun barrels, MT06 initiators, cartridge actuated JAU-59, training devices, helmets, simulators, generators, transportation, wheeled vehicles and organization equipment, spare and repair parts, support equipment, tools and test equipment, technical data and publications, personnel training and training equipment, U.S. government and contractor engineering, technical, and logistics support services, and other related elements of logistics support. The total estimated program cost was $2.3 billion. Major Defense Equipment (MDE) constituted $2.0 billion of this total.

This transmittal notifies inclusion of the following MDE items: ninety-five (95) AN/ARC-231A (RT-1987) radios (not enumerated in the original notification); an additional ten (10) T700-GE-701D engines; and one (1) AN/ASQ-170 Modernized Target Acquisition and Designation Sight/AN/AAR-11 Modernized Pilot Night Vision Sensor (MTADS/PNVS). Also included are AN/APX-123A Identify Friend or Foe (IFF) transponders; KIV-77 Crypto Appliques; AN/PYQ-10 (C) Simple Key Loaders (SKL); and the Automated Communication Engineering Software (ACES) package. The estimated total value of the added items is $150 million. The estimated total MDE value will increase by $150 million to a revised $2.15 billion. The estimated total non-MDE value will decrease by $150 million. The total estimated case value will remain $2.3 billion.

(iv) Significance: This notification is being provided as the additional items replace obsolete items which had not been included in the original notification, and because the aircraft that had been programmed to undergo remanufacture as part of this refurbishment received additional recent damage that required additional parts and support. The proposed articles and services will support Egypt's ongoing effort to modernize its armed forces and increase its capacity to detect threats and control its borders, contributing to the maintenance of regional stability and security. This will contribute to the Egyptian military's effort to update their capabilities and enhance interoperability with the United States and other strategic allies.

(v) Justification: This proposed sale will support the foreign policy and national security objectives of the United States by helping to improve the security of a Major Non-NATO Ally that continues to be an important force for political stability and economic progress in the Middle East.

(vi) Sensitivity of Technology:

The AN/ARC-231A (RT-1987) radio is a multi-mode software defined radio providing line of sight very high frequency (VHF)/ultra high frequency (UHF) secure and non-secure voice and data communications over the 30.000-941.000 MHz frequency range and Satellite Communications (SATCOM) beyond line of sight secure and non-secure voice and data, including Demand Assigned Multiple ACCESS (DAMA) communications over the 240-320 MHz frequency range on manned and unmanned aviation platforms. ARC-231A includes improved type-1 cryptographic algorithm and processing capabilities, Civil Land Mobile Radio, Single Channel Ground and Airborne Radios System (SINCGARS) capabilities, HAVE QUICK (HQ), Second Generation Anti-Jam Tactical UHF Radio for NATO (SATURN) wave form, 8.33 kHz channel spacing for Global Air-Traffic Management (GATM) compliance, and capability for Mobile User Objective System (MUOS) waveform through possible future hardware and software updates.

The AN/APX-123A Transponder is an IFF digital transponder set that provides pertinent platform information in response to an IFF interrogator. It provides this cooperative capability using full diversity selection, as well as Mode Select capability.

The KIV-77 is a Common Crypto Applique for IFF that provides Mode 4/5 capability.

The AN/PYQ-10 (C) Simple Key Loader (SKL) is a ruggedized, portable, hand-held fill device used for securely receiving, storing, and transferring electronic key material and data between compatible end cryptographic units (ECU) and communications equipment. It supports both the DS-101 and DS-102 interfaces, as well as the Crypto Ignition Key, and is compatible with existing ECUs.

The Sensitivity of Technology Statement contained in the original notification applies to other items reported here.

The highest level of classification of defense articles, components, and services included in this potential sale is SECRET.

(vii) Date Report Delivered to Congress: March 26, 2024

[FR Doc. 2025-09787 Filed 5-29-25; 8:45 am]

BILLING CODE 6001-FR-C